DEPARTMENT OF HEALTH AND HUMAN SERVICES

Health Resources and Services Administration

Agency Information Collection Activities: Proposed Collection: Public Comment Request; The National Health Service Corps and NURSE Corps Interest Capture Form

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate below, or any other aspect of the ICR.

DATES: Comments on this ICR should be received no later than April 24, 2017.

ADDRESSES: Submit your comments to paperwork@hrsa.gov or by mail to the HRSA Information Collection Clearance Officer, Room 14N-29, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference, pursuant to Section 3506(c)(2)(A) of the Paperwork Reduction Act of 1995.

Information Collection Request Title: The National Health Service Corps and NURSE Corps Interest Capture Form, OMB No. 0915-0337—Extension.

Abstract: HRSA's Bureau of Health Workforce administers the National Health Service Corps (NHSC) and the NURSE Corps programs, which are committed to improving the health of the underserved by connecting communities in need with health professionals and supporting communities' efforts to build better systems of care. The NHSC and NURSE Corps interest capture form, is an optional form that a health profession student, licensed clinician, faculty member, or clinical site administrator may complete to request information regarding opportunities and program updates with the NHSC and/or the NURSE Corps. Forms request information such as name, email, city and state, organization where employed (or the school attending), the year one intends to graduate (if applicable), and how one heard about the NHSC and NURSE Corps programs.

Need and Proposed Use of the Information: The need and purpose of this information collection is to share information regarding the NHSC and NURSE Corps programs with interested individuals.

Likely Respondents: Individuals interested in the NHSC or NURSE Corps programs.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
NHSC and NURSE Corps Interest Capture Form | 2,400 | 1 | 2,400 | .025 | 60
Total | 2,400 |  | 2,400 |  | 60

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jason E. Bennett,
Director, Division of the Executive Secretariat.

[FR Doc. 2017-03335 Filed 2-17-17; 8:45 am]

BILLING CODE 4165-15-P